DEPARTMENT OF ENERGY

Federal Energy Regulatory Commission

[Docket No. OR08-13-000]

BP West Coast Products LLC and ExxonMobil Oil Corporation, Complainants, v. SFPP, L.P., Respondent; Notice of Complaint

August 11, 2008.

Take notice that on August 8, 2008, BP West Coast Products LLC and ExxonMobil Oil Corporation (Complainants) tendered for filing a complaint against the rates of SFPP, L.P. (SFPP), in effect as of the date of complaint. Complainants request that the Commission set the proceeding for hearing and investigation; appoint a settlement judge to supervise settlement negotiations; terminate SFPP's collection of excess profits from shippers and consumers; establish just and reasonable rates; require the payment of reparations, with interest, compounded quarterly, starting two years before the date of complaint for all rates; not permit “indexing forward” of the resulting rates; and award such other relief as is necessary and appropriate under the Interstate Commerce Act.

Complainants state that copies of the complaint were served on SFPP.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on August 28, 2008.

Nathaniel J. Davis, Sr.,
Deputy Secretary.

[FR Doc. E8-19003 Filed 8-15-08; 8:45 am]

BILLING CODE 6717-01-P